DEPARTMENT OF ENERGY

Federal Energy Regulatory Commission

Combined Notice of Filings #1

Take notice that the Commission received the following exempt wholesale generator filings:

Docket Numbers: EG19-35-000.

Applicants: 226HC 8me LLC.

Description: Notice of Self-Certification of Exempt Wholesale Generator Status of 226HC 8me LLC.

Filed Date: 12/18/18.

Accession Number: 20181218-5065.

Comments Due: 5 p.m. ET 1/8/19.

Take notice that the Commission received the following electric rate filings:

Docket Numbers: ER17-1561-003.

Applicants: New York Independent System Operator, Inc.

Description: Compliance filing: Revised effective date offer cap compliance revisions to be effective 12/19/2018.

Filed Date: 12/17/18.

Accession Number: 20181217-5339.

Comments Due: 5 p.m. ET 1/7/19.

Docket Numbers: ER18-1596-001.

Applicants: Sky River LLC.

Description: eTariff filing per 1450: Compliance Filing in ER18-1596-001 & EL18-112-001 to be effective 3/21/2018.

Filed Date: 12/17/18.

Accession Number: 20181217-5372.

Comments Due: 5 p.m. ET 1/7/19.

Docket Numbers: ER18-1598-001.

Applicants: New York Independent System Operator, Inc.

Description: Compliance filing: Deficiency Response—Central Hudson Show Cause to be effective 3/21/2018.

Filed Date: 12/17/18.

Accession Number: 20181217-5341.

Comments Due: 5 p.m. ET 1/7/19.

Docket Numbers: ER18-2280-002.

Applicants: Alliant Energy Corporate Services, Inc.

Description: Tariff Amendment: Amendment to AECS Updated Rate Schedule 2 to be effective 11/1/2018.

Filed Date: 12/17/18.

Accession Number: 20181217-5294.

Comments Due: 5 p.m. ET 1/7/19.

Docket Numbers: ER18-2352-001.

Applicants: Midcontinent Independent System Operator, Inc.

Description: Tariff Amendment: 2018-12-17_Deficiency response to Real-Time Buybacks of Spinning and Offline Sup to be effective 2/14/2019.

Filed Date: 12/17/18.

Accession Number: 20181217-5336.

Comments Due: 5 p.m. ET 1/7/19.

Docket Numbers: ER19-64-001.

Applicants: Emera Maine, ISO New England Inc.

Description: Tariff Amendment: Emera Maine Response to Deficiency Letter; ER19-64 to be effective 12/9/2018.

Filed Date: 12/18/18.

Accession Number: 20181218-5007.

Comments Due: 5 p.m. ET 1/8/19.

Docket Numbers: ER19-231-001.

Applicants: Dynegy Oakland, LLC.

Description: Tariff Amendment: Deferral of Commission Action to Permit Ongoing Settlement Discussions to be effective 12/31/9998.

Filed Date: 12/17/18.

Accession Number: 20181217-5351.

Comments Due: 5 p.m. ET 1/7/19.

Docket Numbers: ER19-578-000.

Applicants: Prairie Queen Wind Farm LLC.

Description: § 205(d) Rate Filing: Revised MBR Tariff to be effective 12/18/2018.

Filed Date: 12/17/18.

Accession Number: 20181217-5334.

Comments Due: 5 p.m. ET 1/7/19.

Docket Numbers: ER19-579-000.

Applicants: Redbed Plains Wind Farm LLC.

Description: § 205(d) Rate Filing: Revised MBR Tariff to be effective 12/18/2018.

Filed Date: 12/17/18.

Accession Number: 20181217-5335.

Comments Due: 5 p.m. ET 1/7/19.

Docket Numbers: ER19-580-000.

Applicants: Quilt Block Wind Farm LLC.

Description: § 205(d) Rate Filing: Revised MBR Tariff to be effective 12/18/2018.

Filed Date: 12/17/18.

Accession Number: 20181217-5337.

Comments Due: 5 p.m. ET 1/7/19.

Docket Numbers: ER19-581-000.

Applicants: Turtle Creek Wind Farm LLC.

Description: § 205(d) Rate Filing: Revised MBR Tariff to be effective 12/18/2018.

Filed Date: 12/17/18.

Accession Number: 20181217-5338.

Comments Due: 5 p.m. ET 1/7/19.

Docket Numbers: ER19-582-000.

Applicants: California Independent System Operator Corporation.

Description: § 205(d) Rate Filing: 2018-12-17 Custom Load Aggregation Points Clarification Amendment to be effective 3/1/2019.

Filed Date: 12/18/18.

Accession Number: 20181218-5000.

Comments Due: 5 p.m. ET 1/8/19.

Docket Numbers: ER19-583-000.

Applicants: NorthWestern Corporation.

Description: § 205(d) Rate Filing: SA 760 4th Rev—NITSA with Beartooth Electric Coop to be effective 3/1/2019.

Filed Date: 12/18/18.

Accession Number: 20181218-5001.

Comments Due: 5 p.m. ET 1/8/19.

Docket Numbers: ER19-584-000.

Applicants: NorthWestern Corporation.

Description: § 205(d) Rate Filing: SA 792 2nd Rev—NITSA with Big Horn County Electric Coop to be effective 3/1/2019.

Filed Date: 12/18/18.

Accession Number: 20181218-5002.

Comments Due: 5 p.m. ET 1/8/19.

Docket Numbers: ER19-585-000.

Applicants: Quilt Block Wind Farm LLC.

Description: Baseline eTariff Filing: Reactive Power Compensation Filing to be effective 2/16/2019.

Filed Date: 12/18/18.

Accession Number: 20181218-5003.

Comments Due: 5 p.m. ET 1/8/19.

Docket Numbers: ER19-586-000.

Applicants: Southwest Power Pool, Inc.

Description: § 205(d) Rate Filing: 2810 City of Chanute and Westar Meter Agent Agr Cancellation to be effective 1/1/2019.

Filed Date: 12/18/18.

Accession Number: 20181218-5008.

Comments Due: 5 p.m. ET 1/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2018.
Nathaniel J. Davis, Sr.,
Deputy Secretary.

[FR Doc. 2018-27968 Filed 12-26-18; 8:45 am]

BILLING CODE 6717-01-P